DEPARTMENT OF COMMERCE

International Trade Administration

[A-570-504]

Petroleum Wax Candles From the People's Republic of China: Rescission, in Part, of Antidumping Duty Administrative Review

AGENCY: Import Administration, International Trade Administration, U.S. Department of Commerce.

SUMMARY: The Department of Commerce (“the Department”) has received a timely withdrawal of the sole request for an administrative review of the order on petroleum wax candles from the People's Republic of China for three companies. As such, in accordance with 19 CFR 351.231(d)(1), the Department is rescinding this administrative review for: Generaluxe Factory; Guangdong Xin Hui City Si Qian Art & Craft Factory; and, Sincere Factory Company.

EFFECTIVE DATE: July 9, 2003.

FOR FURTHER INFORMATION CONTACT: Javier Barrientos at (202) 482-2243, Import Administration, International Trade Administration, U.S. Department of Commerce, 14th Street and Constitution Avenue, NW., Washington, DC 20230.

SUPPLEMENTARY INFORMATION:

Background

On September 25, 2002, the Department published a notice initiating an administrative review on 108 candle companies for which a review was requested for the period August 1, 2001 through July 31, 2002. See Notice of Initiation of Antidumping and Countervailing Duty Administrative Reviews, Requests for Revocation in Part and Deferral of Administrative Review, 67 FR 60210 (September 25, 2002).

On November 18, 2002, Wal-Mart Stores, Inc. (Wal-Mart) submitted a timely withdrawal of its request for an administrative review of three companies: Generaluxe Factory, Guangdong Xin Hui City Si Qian Art & Craft Factory, and Sincere Factory Company. Wal-Mart was the only party that requested a review of these three companies.

Rescission, in Part, of Review

Pursuant to section 351.213(d)(1) of the Department's regulations, the Department may rescind an administrative review, “if a party that requested the review withdraws the request within 90 days of the date of publication of notice of initiation of the requested review.” Because Wal-Mart has timely withdrawn its request for review within the ninety-day period, and because Wal-Mart was the sole party to request a review of these three companies, we are rescinding this administrative review, in part, for the period August 1, 2001 to July 31, 2002, for: Generaluxe Factory; Guangdong Xin Hui City Si Qian Art & Craft Factory; and, Sincere Factory Company. The Department will issue appropriate assessment instructions directly to the U.S. Bureau of Customs and Border Protection (BCBP) within 15 days of publication of this notice. The Department will direct the BCBP to assess antidumping duties for this company at the cash deposit rate in effect on the date of entry for entries during the period August 1, 2001 to July 31, 2002.

Notification to Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This determination and notice are issued and published in accordance with sections 351.213(d)(4) of the Department's regulations and, sections 751(a)(2)(c)) and 777(I)(1) of the Tariff Act of 1930, as amended.

Dated: June 27, 2003.
Joseph A. Spetrini,
Acting Assistant Secretary for Import Administration.

[FR Doc. 03-17373 Filed 7-8-03; 8:45 am]

BILLING CODE 3510-DS-P